DEPARTMENT OF ENERGY

Federal Energy Regulatory Commission

[Docket No. CP18-543-000]

Coronado Midstream LLC; Notice of Application

Take notice that on August 30 2018, Coronado Midstream LLC (Coronado), 1722 Routh Street, Suite 1300, Dallas, Texas 75201, filed an application under section 7(c) of the Natural Gas Act and Part 157 of the Commission's regulations requesting authorization to own and operate existing natural gas residue lines connected to three processing plants in Andrews County and Martin County, Texas, and for related waivers. Specifically, Coronado requests (1) a limited jurisdiction certificate authorizing Coronado to transport natural gas owned solely by Coronado through existing residue lines connected to the tailgate outlets of Coronado's Midmar East processing plant, Midmar West processing plant, and Riptide processing plant; and (2) a waiver of certain regulatory requirements.

This filing is available for review at the Commission's Washington, DC offices, or may be viewed on the Commission's website at http://www.ferc.gov using the e-Library link. Enter the docket number, excluding the last three digits, in the docket number field to access the document. For assistance, please contact FERC Online Support at FERCOnlineSupport@ferc.gov, or call toll-free at (866) 208-3676, or for TTY, contact (202) 502-8659.

Any questions regarding the filing should be directed to Emily Fuquay, Senior Counsel & Director of Regulatory Affairs at the address listed above, by phone at 214-721-9678, or via email at emily.fuquay@enlink.com; and Kenneth W.Irvin, Sidley Austin LLP, 1501 K Street NW, Washington, DC 20005, by phone at 202-736- 8256, or via email at kirvin@sidley.com.

There are two ways to become involved in the Commission's review of this project. First, any person wishing to obtain legal status by becoming a party to the proceedings for this project should, on or before the comment date stated below, file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 5 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions in lieu of paper using the eFiling link at http://www.ferc.gov. Persons unable to file electronically should submit an original and 7 copies of the protest or intervention to the Federal Energy Regulatory Commission, 888 First Street NE, Washington, DC 20426.

There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m., October 3, 2018.

Dated: September 12, 2018.
Kimberly D. Bose,
Secretary.

[FR Doc. 2018-20683 Filed 9-21-18; 8:45 am]

BILLING CODE 6717-01-P